DEPARTMENT OF VETERANS AFFAIRS

Prosthetics and Special-Disabilities Programs, Notice of Meeting

The Department of Veterans Affairs (VA) gives notice under the Federal Advisory Committee Act, 5 U.S.C. app.2, that a virtual meeting of the Federal Advisory Committee on Prosthetics and Special-Disabilities Programs will be held on Monday, October 18-Tuesday, October 19, 2021. The meeting sessions will begin and end as follow:

Date | Time (Eastern Standard Time)
October 18, 2021 | 8:30 a.m.-4:30 p.m.
October 19, 2021 | 8:30 a.m.-3:00 p.m.

The virtual meeting sessions are open to the public.

The purpose of the Committee is to advise the Secretary of Veterans Affairs on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

On October 18, 2021 the Committee will convene open virtual sessions on Audiology and Speech Pathology; Blind Rehabilitation Service; Caregiver Support Program; Office of Academic Affiliations; Reasonable Accommodations (Diversity, Equity & Inclusion); and Prosthetic and Sensory Aids Service.

On October 19, 2021 the Committee members will convene open virtual sessions on Recreation and Creative Arts Therapies; National Veterans Sports Program and Special Events; and Subcommittees for Neurology Centers of Excellence.

No time will be allocated at this virtual meeting for receiving oral presentations from the public. The public may submit 1-2-page summaries of their written statements for the Committee's review. Public comments may be received no later than October 09, 2021 for inclusion in the official meeting record. Please send these comments to Judy Schafer, Ph.D., Designated Federal Officer, Rehabilitation and Prosthetic Services, Veterans Health Administration, at Judy.Schafer@va.gov.

Members of the public who wish to obtain a copy of the agenda, should contact Judy Schafer, Ph.D. at Judy.Schafer@va.gov, and provide your name, professional affiliation, email address, and phone number. For any members of the public that wish to attend virtually, they may use the WebEx link: https://veteransaffairs.webex.com/veteransaffairs/j.php?MTID=m195d4026a5a13978ba8fcfd08ee9729b meeting number (access code) 27617060216; meeting password: YKcMw7qV@67 audio only: 404.397.1596/27617060216##. Real time closed captioning will be available.

Dated: September 28, 2021.
LaTonya L. Small,
Federal Advisory Committee Management Office.

[FR Doc. 2021-21431 Filed 9-30-21; 8:45 am]

BILLING CODE P